DEPARTMENT OF EDUCATION

Applications for New Awards; Migrant Education Program Consortium Incentive Grant Program

AGENCY: Office of Elementary and Secondary Education, Department of Education.

ACTION: Notice.

SUMMARY: The Department of Education is issuing a notice inviting applications for fiscal year (FY) 2020 for the Migrant Education Program (MEP) Consortium Inventive Grant program (CIG), Catalog of Federal Domestic Assistance (CFDA) number 84.144F.

DATES:

Applications Available: February 28, 2020.

Deadline for Transmittal of Applications: April 27, 2020.

Deadline for Intergovernmental Review: June 24, 2020.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Patricia Meyertholen, U.S. Department of Education, 400 Maryland Avenue SW, Room 3E315, Washington, DC 20202-6135. Telephone: (202) 260-1394. Email: Patricia.Meyertholen@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the MEP CIG program is to provide incentive grants to State educational agencies (SEAs) that participate in a consortium with one or more other SEAs or other appropriate entities to improve the delivery of services to migratory children whose education is interrupted. Through this program, the Department provides financial incentives to SEAs that receive Title I, Part C (MEP) funding to participate in high-quality consortia to improve the intrastate and interstate coordination of migrant education programs by addressing key needs of migratory children whose education is interrupted.

Background: On March 3, 2004, the Department published in the Federal Register a notice of final requirements for the CIG program (69 FR 10110) (2004 CIG NFR). In the notice, the Department established seven absolute priorities that promote key national objectives of the MEP. The Department added an eighth absolute priority when it published in the Federal Register a notice of final priority on March 12, 2008 (73 FR 13217) (2008 CIG NFP).

For FY 2020, the Department is focusing the CIG competition on three absolute priorities. These absolute priorities were selected in order to improve alignment of program priorities with the Administration's priorities. Specifically, the FY 2020 competition will focus on improving the proper and timely identification and recruitment of eligible migratory children, strengthening the involvement of migratory parents in the education of their children, and improving the educational attainment of out-of-school youth.

We recognize the importance of sustaining efforts to properly and timely identify and recruit migratory children and continue to welcome applications that address this absolute priority. To promote a seamless transition between identification and recruitment, and taking the next step to enroll and serve these children, within this absolute priority, the FY 2020 competition includes an invitational priority for applications designed to develop, promote, and adopt enrollment, placement, and credit accrual policies that meet the unique needs of migratory children. This invitational priority encourages the transfer of educational records as it relates to proper enrollment in school and placement in grade and course, and accrual of credits.

The FY 2020 competition also includes two competitive preference priorities. The first is Supplemental Priority 6 from the Department's Notice of Final Supplemental Priorities and Definitions for Discretionary Grant Programs (Supplemental Priorities), published in the Federal Register on March 2, 2018 (83 FR 9096), which calls for projects in science, technology, engineering, and math (STEM) education, including computer science, that support student mastery of key prerequisites to ensure success in all STEM fields and expose students to building-block skills such as critical thinking and problem-solving, gained through hands-on, inquiry-based learning.

The second competitive preference priority, Priority 9 of the Supplemental Priorities, encourages projects designed to increase educational opportunities by reducing academic or nonacademic barriers to economic mobility.

We encourage applications that propose to address these absolute, competitive preference, and invitational priorities. The types of applications we envision receiving include, for example, projects that propose to strengthen the involvement of migratory parents in the education of their children by encouraging activities that raise awareness and understanding among migratory parents about the importance of STEM education, the timing and mastery of prerequisites such as Algebra I, and the opportunities available in STEM and computer science fields; and empower parents to advocate for placement in appropriate courses if their children seek to pursue a career in STEM. Such projects would align with the Secretary's vision for family engagement and with Supplemental Priority 6.¹

¹ STEM is also a national priority. For more details, see “Charting A Course For Success: America's Strategy For STEM Education”, www.whitehouse.gov/wp-content/uploads/2018/12/STEM-Education-Strategic-Plan-2018.pdf (December 2018).

In addition, we encourage applications that propose to create or support alternative pathways to a regular high school diploma or post-secondary credential for migratory youth who have dropped out of school. For example, applications that reduce barriers or challenges to completion of a traditional education program by providing opportunities such as: Afternoon or evening academic programs, online learning, independent study, flexible scheduling, one-on-one education plans and guidance, career counseling, high school equivalency programs, and integrated education and training that provides high school equivalency instruction concurrently and contextually with workforce preparation activities and workforce training for a specific occupation or occupational cluster, with the goals of supporting these individuals' pursuit of a regular high school diploma or postsecondary credential. Such projects would align with Supplemental Priority 9 and with recent changes to the Elementary and Secondary Education Act, as amended (ESEA), which gives priority for MEP services to migratory children who have dropped out of school.

These are two examples of projects or components of projects that a consortium of MEP States could propose when submitting a CIG application. We also encourage other combinations of the absolute, competitive preference, and invitational priorities.

Priorities: Applicants must address at least one of the three absolute priorities described in this notice. Absolute Priorities 1 and 2 are from the 2004 CIG NFR. Absolute Priority 3 is from the 2008 CIG NFP. The term “scientifically based” has been replaced with “evidence-based” in Absolute Priorities 2 and 3 as explained in the Waiver of Proposed Rulemaking section of this notice.

Within Absolute Priority 1, we include one invitational priority that applicants have the option to address. Within Absolute Priorities 2 and 3, we include two competitive preference priorities that applicants have the option to address. The competitive preference priorities are from the Supplemental Priorities.

The applicant must clearly indicate in the abstract section of its application to which absolute priority or priorities it is applying. The Department intends to create three funding slates for CIG applications—one for applications that meet Absolute Priority 1, a separate slate for applications that meet Absolute Priority 2, and a third slate for applications that meet Absolute Priority 3. As a result, the Department may fund applications out of the overall rank order. The Department anticipates making at least one award on each slate, provided applications of sufficient quality are submitted, but the Department is not bound by these estimates.

In addition, the applicant must indicate in the abstract section of its application which competitive preference or invitational priority it is addressing, if any. While applicants are encouraged to address only one competitive preference priority, if an applicant chooses to address more than one competitive preference priority, the Department will instruct reviewers to score the first competitive preference priority mentioned in the abstract.

Absolute Priorities: For FY 2020, these priorities are absolute priorities. Under 34 CFR 75.105(c)(3) we consider only applications that meet one or more of these priorities.

These priorities are:

Absolute Priority 1: Services designed to improve the proper and timely identification and recruitment of eligible migratory children whose education is interrupted.

Within this absolute priority, we are particularly interested in applications that address the following invitational priority.

Invitational Priority: Under 34 CFR 75.105(c)(1), we do not give an application that meets this invitational priority a competitive or absolute preference over other applications.

This priority is:

Projects designed to assist SEAs and local educational agencies to develop, promote, and adopt enrollment, placement, and credit accrual policies to meet the unique needs of migratory children resulting from educational disruptions, including for secondary school-aged students, such as consolidation of partial credits, out-of-State administration of mandated State assessments, and flexible credit accrual options.

Absolute Priority 2: Services designed (based on a review of evidence-based research) to strengthen the involvement of migratory parents in the education of migratory students whose education is interrupted.

Absolute Priority 3: Services designed (based on a review of evidence-based research) to improve the educational attainment of out-of-school migratory youth whose education is interrupted.

Competitive Preference Priorities: For FY 2020, these priorities are competitive preference priorities. Within Absolute Priorities 2 and 3, we give competitive preference to applications that address one of the following priorities. Under 34 CFR 75.105(c)(2)(i) we award up to an additional 10 points to an application, depending on how well the application meets one of the competitive preference priorities.

The priorities are:

Competitive Preference Priority 1: Promoting Science, Technology, Engineering, and Math (STEM) Education, With a Particular Focus on Computer Science (Up to 10 points).

Projects designed to improve student achievement or other educational outcomes in one or more of the following areas: Science, technology, engineering, math, or computer science (as defined in this notice). These projects must address supporting student mastery of key prerequisites (e.g., Algebra I) to ensure success in all STEM fields, including computer science (notwithstanding the definition in this notice); exposing children or students to building-block skills (such as critical thinking and problem-solving, gained through hands-on, inquiry-based learning); or supporting the development of proficiency in the use of computer applications necessary to transition from a user of technologies, particularly computer technologies, to a developer of them.

Competitive Preference Priority 2: Promoting Economic Opportunity (Up to 10 points).

Projects designed to increase educational opportunities by reducing academic or nonacademic barriers to economic mobility. These projects must address creating or supporting alternative paths to a regular high school diploma (as defined in section 8101(43) of the ESEA) or recognized postsecondary credentials (as defined in section 3(52) of the Workforce Innovation and Opportunity Act (WIOA)) for students whose environments outside of school, disengagement with a traditional curriculum, homelessness, or other challenges make it more difficult for them to complete an educational program.

Definitions: The following definitions apply to this competition. The definition of “computer science” is from the Supplemental Priorities. The definitions of “demonstrates a rationale” and “evidence-based” are from 34 CFR 77.1(c). The definition of “recognized postsecondary credential” is from section 3(52) of WIOA. The definition of “regular high school diploma” is from section 8101(43) of the ESEA.

Computer science means the study of computers and algorithmic processes and includes the study of computing principles and theories, computational thinking, computer hardware, software design, coding, analytics, and computer applications.

Computer science often includes computer programming or coding as a tool to create software, including applications, games, websites, and tools to manage or manipulate data; or development and management of computer hardware and the other electronics related to sharing, securing, and using digital information.

In addition to coding, the expanding field of computer science emphasizes computational thinking and interdisciplinary problem-solving to equip students with the skills and abilities necessary to apply computation in our digital world.

Computer science does not include using a computer for everyday activities, such as browsing the internet; use of tools like word processing, spreadsheets, or presentation software; or using computers in the study and exploration of unrelated subjects.

Demonstrates a rationale means a key project component (as defined in 34 CFR 77.1(c)) included in the project's logic model (as defined in 34 CFR 77.1(c)) is informed by research or evaluation findings that suggest the project component is likely to improve relevant outcomes (as defined in 34 CFR 77.1(c)).

Evidence-based means the proposed project component (as defined in 34 CFR 77.1(c)) is supported by one or more of strong evidence (as defined in 34 CFR 77.1(c)), moderate evidence (as defined in 34 CFR 77.1(c)), promising evidence (as defined in 34 CFR 77.1(c)), or evidence that demonstrates a rationale.

Recognized postsecondary credential means a credential consisting of an industry-recognized certificate or certification, a certificate of completion of an apprenticeship, a license recognized by the State involved or Federal Government, or an associate or baccalaureate degree.

Regular high school diploma means the standard high school diploma awarded to the preponderance of students in the State that is fully aligned with State standards, or a higher diploma, except that a regular high school diploma shall not be aligned to the alternate academic achievement standards described in section 1111(b)(1)(E) of the ESEA; and does not include a recognized equivalent of a diploma, such as a general equivalency diploma, certificate of completion, certificate of attendance, or similar lesser credential.

Waiver of Proposed Rulemaking: The term “scientifically based” has been replaced with the term “evidence-based,” as defined in 34 CFR 77.1(c). Under the Administrative Procedure Act (5 U.S.C. 553) (APA) the Department generally offers interested parties the opportunity to comment on proposed regulations. However, the APA provides that an agency is not required to conduct notice-and-comment rulemaking when the agency, for good cause, finds that the requirement is impracticable, unnecessary, or contrary to the public interest (5 U.S.C. 553(b)(B) and (d)(3)). There is good cause to waive rulemaking in this case because the term “scientifically based” and its definition are no longer in statute. Therefore, under 5 U.S.C. 553(b)(B), the Secretary has determined that obtaining public comment on the removal of the term “scientifically based” and the adoption of the term “evidence-based” is unnecessary and contrary to the public interest.

The APA also generally requires that regulations be published at least 30 days before their effective date, unless the agency has good cause to implement its regulations sooner (5 U.S.C. 553(d)(3)). Because this final regulatory action merely updates outdated regulations, the Secretary also has good cause to waive the 30-day delay in the effective date of these regulatory changes under 5 U.S.C. 553(d)(3).

Program Authority: 20 U.S.C. 6398(d).

Applicable Regulations: (a) The Education Department General Administrative Regulations in 34 CFR parts 75 (except 75.232), 76, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The 2004 CIG NFR. (e) The 2008 CIG NFP. (f) The notice of final requirement published in the Federal Register on December 31, 2013 (78 FR 79613). (g) The MEP regulations in 34 CFR 200.81-200.89. (h) The Supplemental Priorities.

Note: The regulations in 34 CFR part 86 apply to institutions of higher education only.

II. Award Information

Type of Award: Formula grants.

Estimated Available Funds: $3,000,000.

Estimated Range of Awards: $50,000-$150,000.

The actual size of an SEA's award will depend on the number of SEAs that participate in high-quality consortia and the size of those SEAs' MEP formula grant allocations.

Estimated Average Size of Awards: $100,000.

Maximum Award: An SEA cannot receive an incentive award that exceeds its MEP Basic State Formula grant allocation or $250,000, whichever is less, for a single budget period of 12 months.

Estimated Number of Awards: 30 SEA awards. An SEA that participates in a consortium may receive only one incentive grant award regardless of the number of consortia in which it participates.

Note: The Department is not bound by any estimates in this notice.

Project Period: Up to 36 months.

III. Eligibility Information

1. Eligible Applicants: SEAs receiving MEP Basic State Formula grants, in a consortium with one or more other SEAs or other appropriate entities. An application for an incentive grant must be submitted by an SEA that will act as the “lead SEA” for the proposed consortium.

2. a. Cost Sharing or Matching: This program does not require cost sharing or matching.

b. Supplement-Not-Supplant: This program involves supplement-not-supplant funding requirements. Pursuant to the 2004 CIG NFR, the supplement-not-supplant provisions in sections 1118(b) and 1304(c)(2) of the ESEA are applicable to this program.

3. Subgrantees: Under 34 CFR 75.708(b) and (c) a grantee under this competition may award subgrants. Pursuant to ESEA section 1302, the Secretary makes grants to SEAs, or combinations of such agencies, to establish or improve, directly or through local operating agencies, programs of education for migratory children.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

Note: Applicants are not required to submit Budget information (ED 524). Please see the application package for a complete list of application requirements.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative (Part III of the application) is where you, the applicant, address the selection criteria that reviewers use to evaluate your application. We recommend that you (1) limit the application narrative to no more than 25 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

5. Use of CIG Funds: SEAs in consortia receiving awards must implement the activities described in their project applications as a condition of their receipt of funds. CIG awards are treated as additional funds available to an SEA under the MEP Basic State Formula grant program. Moreover, general requirements governing the use and reporting of awarded funds would be governed by provisions of 34 CFR part 76, which govern State-administered formula grant programs, and the Uniform Administrative Requirements, Cost Principles, and Audit Requirements for Federal Awards in 2 CFR part 200.

V. Application Review Information

1. Selection Criteria: The selection criteria for this program are from 34 CFR part 75.210 and are as follows:

(a) Significance (10 points). The Secretary considers the significance of the proposed project. In determining the significance of the proposed project, the Secretary considers:

(1) The extent to which the proposed project is likely to build local capacity to provide, improve, or expand services that address the needs of the target population. (Up to 5 points)

(2) The extent to which the results of the proposed project are to be disseminated in ways that will enable others to use the information or strategies. (Up to 5 points)

(b) Quality of the project design (30 points). The Secretary considers the quality of the design of the proposed project. In determining the quality of the design of the proposed project, the Secretary considers:

(1) The extent to which the goals, objectives, and outcomes to be achieved by the proposed project are clearly specified and measurable. (Up to 10 points)

(2) The extent to which the design of the proposed project is appropriate to, and will successfully address, the needs of the target population or other identified needs. (Up to 7 points)

(3) The extent to which the proposed project will establish linkages with other appropriate agencies and organizations providing services to the target population. (Up to 5 points)

(4) The extent to which the proposed project demonstrates a rationale (as defined in this notice). (Up to 8 points)

(c) Quality of project services (30 points). The Secretary considers the quality of the services to be provided by the proposed project.

(1) In determining the quality of the services to be provided by the proposed project, the Secretary considers the quality and sufficiency of strategies for ensuring equal access and treatment for eligible project participants who are members of groups that have traditionally been underrepresented based on race, color, national origin, gender, age, or disability. (Up to 3 points)

(2) In addition, the Secretary considers the following factors:

(i) The extent to which the services to be provided by the proposed project are appropriate to the needs of the intended recipients or beneficiaries of those services. (Up to 10 points)

(ii) The likely impact of the services to be provided by the proposed project on the intended recipients of those services. (Up to 10 points)

(iii) The extent to which the services to be provided by the proposed project involve the collaboration of appropriate partners for maximizing the effectiveness of project services. (Up to 7 points)

(d) Quality of the management plan (10 points). The Secretary considers the quality of the management plan for the proposed project. In determining the quality of the management plan for the proposed project, the Secretary considers the following factors:

(1) The adequacy of procedures for ensuring feedback and continuous improvement in the operation of the proposed project. (Up to 2 points)

(2) The adequacy of mechanisms for ensuring high-quality products and services from the proposed project. (Up to 3 points)

(3) The extent to which the time commitments of the project director and principal investigator and other key project personnel are appropriate and adequate to meet the objectives of the proposed project. (Up to 5 points)

(e) Quality of the project evaluation (20 points). The Secretary considers the quality of the evaluation to be conducted of the proposed project. In determining the quality of the project evaluation, the Secretary considers:

(1) The extent to which the methods of evaluation are thorough, feasible, and appropriate to the goals, objectives, and outcomes of the proposed project. (Up to 10 points)

(2) The extent to which the methods of evaluation will provide performance feedback and permit periodic assessment of progress toward achieving intended outcomes. (Up to 10 points)

2. Review and Selection Process: We remind potential applicants that in reviewing applications in any grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report as directed by the Secretary. If you receive a multiyear award, you must submit an annual performance report that provides the most current performance information as directed by the Secretary under 34 CFR 75.118. The Secretary may also require more frequent performance reports under 34 CFR 75.720(c). For specific requirements on reporting, please go to www.ed.gov/fund/grant/apply/appforms/appforms.html.

5. Performance Measures: Consortium grantees are required to report on their project's effectiveness based on the project objectives, performance measures, and scheduled activities outlined in the consortium's application.

In addition, all grantees are required, under 34 CFR 80.40(b), to report on the Government Performance and Results Act of 1993 (GPRA) indicators as part of their Consolidated State Performance Report. The GPRA indicators established by the Department for the MEP, of which the Consortium Incentive Grants are a component, are—

(a) The percentage of MEP students that scored at or above proficient on their State's annual Reading/Language Arts assessments in grades 3-8;

(b) The percentage of MEP students that scored at or above proficient on their State's annual Mathematics assessments in grades 3-8;

(c) The percentage of MEP students who were enrolled in grades 7-12, and graduated or were promoted to the next grade level; and

(d) The percentage of MEP students who entered 11th grade that had received full credit for Algebra I or a higher Mathematics course.

6. Continuation Awards: In making a continuation award under 34 CFR 75.253, the Secretary considers, among other things: Whether a grantee has made substantial progress in achieving the goals and objectives of the project and whether the grantee has expended funds consistent with MEP requirements.

VII. Other Information

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Dated: February 20, 2020.
Frank T. Brogan,
Assistant Secretary for Elementary and Secondary Education.

[FR Doc. 2020-03763 Filed 2-24-20; 8:45 am]

BILLING CODE 4000-01-P